DEPARTMENT OF LABOR

Employment and Training Administration

[TA-W-63,735]

HTI Hydraulic Technologies, LLC; Galion, OH; Notice of Termination of Investigation

Pursuant to Section 221 of the Trade Act of 1974, as amended, an investigation was initiated on July 24, 2008 in response to a petition filed on behalf of workers of HTI Hydraulic Technologies, LLC, Galion, Ohio.

The petitioning group of workers is covered by an active certification (TA-W-62,679 as amended) which expires on February 22, 2010. Consequently, further investigation in this case would serve no purpose, and the investigation has been terminated.

Signed at Washington, DC, this 15th day of August 2008.
Linda G. Poole,
Certifying Officer, Division of Trade Adjustment Assistance.

[FR Doc. E8-19410 Filed 8-20-08; 8:45 am]

BILLING CODE 4510-FN-P